NATIONAL AERONAUTICS AND SPACE ADMINISTRATION

[Notice (07-011)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: February 22, 2007.

FOR FURTHER INFORMATION CONTACT: David Walker, Patent Counsel, Goddard Space Flight Center, Mail Code 140.1, Greenbelt, MD 20771-0001; telephone (301) 286-7351; fax (301) 286-9502.

NASA Case No. GSC-15030-1: Optical Source and Apparatus for Remote Sensing;

NASA Case No. GSC-15043-1: Systems, Methods and Apparatus for Procedure Development and Verification;

NASA Case No. GSC-14879-1: Hybrid Diversity Method Utilizing Adaptive Diversity Function;

NASA Case No. GSC-14901-1: Optical System for Inducing Focus Diversity;

NASA Case No. GSC-15056-1: Noise-Assisted Data Analysis Method, System and Program Product Therefor;

NASA Case No. GSC-15079-1: Systems, Methods and Apparatus for Generation and Verification of Policies in Autonomic Computing Systems;

NASA Case No. GSC-15080-1: Systems, Methods and Apparatus for Pattern Matching in Procedure Development and Verification;

NASA Case No. GSC-15176-1: Systems, Methods and Apparatus for Quiescence of Autonomic Systems;

NASA Case No. GSC-15179-1: Systems, Methods and Apparatus for Autonomic Safety Devices;

NASA Case No. GSC-15042-1: Device, System and Method for a Sensing Electrical Circuit;

NASA Case No. GSC-15148-1: Systems, Methods and Apparatus for Automata Learning in Generation of Scenario-Based Requirements in System Development;

NASA Case No. GSC-15177-1: Systems, Methods and Apparatus for Developing and Maintaining Evolving Systems With Software Product Lines;

NASA Case No. GSC-14562-1: Stepping Flexures;

NASA Case No. GSC-15003-1: Solid-State Laser Gain Module;

NASA Case No. GSC-15115-1: Device System and Method for Miniaturized Radiation Spectrometer;

NASA Case No. GSC-15178-1: Systems, Methods and Apparatus for Modeling, Specifying and Deploying Policies in Autonomous and Autonomic Systems Using Agent-Oriented Software Engineering;

NASA Case No. GSC-15186-1: Systems, Methods and Apparatus for Flash Drive.

NASA Case No. GSC-14927-1: Systems and Method for Delivery of Information.

Dated: February 9, 2007.
Keith T. Sefton,
Deputy General Counsel, Administration and Management.

[FR Doc. E7-2917 Filed 2-21-07; 8:45 am]

BILLING CODE 7510-13-P